SMALL BUSINESS ADMINISTRATION

Council on Underserved Communities, Re-Establishment

AGENCY: U.S. Small Business Administration (SBA).

ACTION: Notice of Federal advisory committee meeting conference call.

SUMMARY: Pursuant to the Federal Advisory Committee Act and its implementing regulations, SBA is issuing this notice to announce the date, time, and agenda for the first meeting of the SBA Council on Underserved Communities. The meeting will be open to the public.

DATES: This conference call will be held on Tuesday, May 21, 2013 from 2:30 p.m. to 3:30 p.m. Eastern Daylight Savings Time.

FOR FURTHER INFORMATION CONTACT: The meeting is open to the public however advance notice of attendance is requested. For further questions about the Council on Underserved Communities may be directed to Dan Jones, telephone (202) 205-7583, fax (202) 481-6536, email dan.jones@sba.gov or mail, U.S. Small Business Administration, 409 3rd Street SW., 7th Floor, Washington, DC 20416.

SUPPLEMENTARY INFORMATION: Pursuant to its authority in section 8(b)(13) of the Small Business Act (15 U.S.C. 637(b)), SBA is re-establishing the Council on Underserved Communities. This discretionary committee is being re-established in accordance with the provisions of the Federal Advisory Committee Act, as amended (5 U.S.C. App.).

The Council provides advice, ideas and opinions on SBA programs and services and issues of interest to small businesses in underserved communities. Its members provide an essential connection between SBA and small businesses in inner city and rural communities. The Council's scope of activities includes reviewing SBA current programs and policies, while working towards creating new and insightful place-based initiatives to spur economic growth, job creation, competiveness, and sustainability.

Council members bring a number of important points of views to the Council: an understanding of the barriers to success for small business owners in underserved communities; experience working in and operating businesses in urban and rural underserved communities; challenges regarding access to capital; knowledge and experience in training and counseling entrepreneurs in underserved communities; and associations representing owners of small business in underserved communities.

The Council has a total of twenty (20) members, 19 members-at-large and one Chair. Members consist of current or former small business owners, community leaders, officials from small business trade associations, and academic institutions. Members represent the interests of underserved communities across the country, both rural and urban.

Dated: May 7, 2013.
Dan Jones,
SBA Committee Management Officer.

[FR Doc. 2013-11433 Filed 5-13-13; 8:45 am]

BILLING CODE P